DEPARTMENT OF TRANSPORTATION

Federal Aviation Administration

14 CFR Part 39

[Docket No. 2000-NM-412-AD; Amendment 39-12356; AD 2001-15-21]

RIN 2120-AA64

Airworthiness Directives; Airbus Model A300 B2 and B4; A310; and A300 B4-600, B4-600R, and F4-600R (Collectively Called A300-600) Series Airplanes

AGENCY: Federal Aviation Administration, DOT.

ACTION: Final rule.

SUMMARY: This amendment adopts a new airworthiness directive (AD), applicable to certain Airbus Model A300 B2 and B4; A310; and A300 B4-600, B4-600R, and F4-600R (collectively called A300-600) series airplanes; that requires modification of certain components related to the fuel level sensors. This action is necessary to prevent the possibility of overheating of the fuel level sensors, which could lead to the risk of explosion in the fuel tank. This action is intended to address the identified unsafe condition.

DATES: Effective September 10, 2001.

The incorporation by reference of certain publications listed in the regulations is approved by the Director of the Federal Register as of September 10, 2001.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain Airbus Model A300 B2 and B4; A310; and A300 B4-600, B4-600R, and F4-600R (collectively called A300-600) series airplanes; was published in the Federal Register on May 2, 2001 (66 FR 21893). That action proposed to require modification of certain components related to the fuel level sensors.

Comments

Interested persons have been afforded an opportunity to participate in the making of this amendment. Due consideration has been given to the comments received.

Remove Paragraph (b)—Spare Parts

One commenter asks that the “spare parts” paragraph in the proposed rule be deleted for the following reasons:

• This is not a requirement of the French airworthiness directive.

• It is not clear to the commenter why the spares paragraph is necessary. It will force operators to accomplish at least a portion of the referenced service bulletin prior to the effective date of the AD. The level sensor connectors are not unsafe components, and replacing a connector with a new, improved connector does not improve safety. The intent of the proposed AD is to address a possible 115V alternating current short somewhere upstream of the tank, not to replace faulty connectors. A mechanic may wish to replace a level sensor connector for troubleshooting, or because the existing connector is damaged, but that connector position is as safe as other tank connectors on the airplane that have not been replaced and do not require replacement until 18 months after the effective date of the proposed rule. This type of requirement is used in other ADs when the part being replaced may create a safety problem, which does not apply in this case.

• Prohibiting the use of the spare parts specified in paragraph (b) as of the effective date of the proposed rule creates an undue burden for the operator. Parts to accomplish the referenced service bulletins may not be available at that time, and this could cause an operator to ground an airplane while waiting for parts to be obtained. The airplane mechanic uses the Illustrated Parts Catalog, wiring diagrams, maintenance manuals, etc., when replacing parts on the airplane, and this requirement does not allow time to revise these manuals and create other documentation that will address the procedures specified in the service bulletins. Mechanics may inadvertently violate the proposed rule because the manual used is not revised to include the latest information.

The FAA agrees with the commenter for the reasons submitted, and has removed paragraph (b) of the final rule. By removing the spare parts paragraph, the operators are given time to acquire the redesigned part from the supplier, and install the spare parts specified during the 18-month timeframe required by paragraph (a) of the final rule.

Add Certain Wording to Proposed Rule

One commenter asks that the proposed rule be revised to add a statement specifying that previous accomplishment of the French airworthiness directive is acceptable for compliance with the actions specified in the proposed rule, and adds that the French airworthiness directive includes a statement that reads, “All later approved revisions of these service bulletins are acceptable.” The commenter states that adding these statements would save both the commenter and the FAA the time and effort it takes to go through the alternative method of compliance process.

The FAA partially agrees, as follows:

We agree that previous accomplishment of the French airworthiness directive (which references accomplishment of the actions specified in the service bulletins) is acceptable for compliance with the actions specified in the final rule. However, all ADs contain the phrase, “Compliance: Required as indicated, unless accomplished previously,” so no change to the final rule is necessary in this regard.

We do not agree that subsequent revisions of the referenced service bulletins are acceptable for accomplishment of the actions required by the final rule. To use the phrase, “or later approved revisions,” in an AD when referring to the service document violates Office of the Federal Register (OFR) regulations regarding approval of materials “incorporated by reference” in rules. In general terms, these OFR regulations require that either the service document contents be published as part of the actual AD language, or the service document be submitted for approval by the OFR as “referenced” material, in which case it may be only referred to in the text of an AD. The AD may only refer to the service document that was submitted and approved by the OFR for “incorporation by reference.” In order for operators to use later revisions of the referenced document (issued after the publication of the AD), either the AD must be revised to reference the specific later revisions, or operators must request the approval to use them as an alternative method of compliance with this final rule under the provisions of paragraph (b) of the final rule.

Extend Compliance Time

Two commenters ask for an extension of the compliance time specified in the proposed rule. One commenter states that the parts manufacturer it orders from will have an influx of purchase orders when the final rule is published, which will delay deliveries. The commenter asks that the FAA allocate time to receive all the parts required to modify its airplanes before releasing the final rule. The commenter also asks for an extension of the compliance time from 18 to 30 months after the effective date of the AD because such an increase would allow it to accomplish the requirements of paragraph (a) of the proposed AD during a regular maintenance check. The commenter adds that any less than 30 months would require field accomplishment.

Another commenter asks that the compliance time in paragraph (a) of the proposed rule be extended from 18 to 24 months after the effective date of the AD. The commenter states that if the 18-month limitation is equivalent to most “C” check intervals, allowing for a heavy check in order to comply with the modification, airlines operating under Section 19 of the Airbus A300 Maintenance Planning Document should be given similar consideration for the “Low Utilization Program (LUP).” The commenter adds that, for the LUP operator, the heavy check equivalent to a “C” check is the “M24” check, which is accomplished every 24 months. The “M24” check also is limited to 4,000 flight hours, which is the same flight hour limitation specified in the Airbus service bulletin referenced in the proposed rule. The commenter notes that it will probably accomplish the modification on some of its airplanes during a light check if the 18-month limitation is not changed, but adds that opening and venting every fuel tank is a complex task to accomplish during a light check.

The FAA does not agree with the commenters' requests. Although the referenced service bulletins specify accomplishment of the modification required by paragraph (a) of this final rule within 4,000 flight hours after the effective date of the AD, the French airworthiness directive clearly specifies an 18-month compliance time. In developing an appropriate compliance time for this action, we considered not only the degree of urgency associated with addressing the subject unsafe condition, but the Direction Générale de l'Aviation Civile recommendation as to an appropriate compliance time, and the practical aspect of accomplishing the required modification within an interval of time that parallels normal scheduled maintenance for the majority of affected operators. We have determined that within 18 months after the effective date of this AD represents an appropriate compliance time allowable for the modification to be accomplished during scheduled maintenance intervals. However, under the provisions of paragraph (b) of the final rule, we may approve requests for adjustments to the compliance time if data are submitted to substantiate that such an adjustment would provide an acceptable level of safety.

Conclusion

After careful review of the available data, including the comments noted above, the FAA has determined that air safety and the public interest require the adoption of the rule with the change described previously. The FAA has determined that this change will neither increase the economic burden on any operator nor increase the scope of the AD.

Cost Impact

The FAA estimates that 157 airplanes of U.S. registry will be affected by this AD, that it will take approximately the number of work hours per airplane specified in the table below to accomplish the required modifications, and that the average labor rate is $60 per work hour. Approximate required parts costs and costs per airplane are listed in the table below:

Airplane Model | Work hours | Parts cost | Approximate cost per airplane
A300 B2 Post Modification 03082S4068 | 8 | $18,241 | $18,721
A300 B2 Pre Modification 03082S4068 | 8 | 16,690 | 17,170
A300 B4 Post Modification 01664S2368 | 16 | 24,512 | 25,472
A300 B4 Pre Modification 01664S2368 | 16 | 22,811 | 23,771
A310-200 | 10 | 11,972 | 12,572
A310-300 | 12 | 16,125 | 16,845
A300-600 | 2 | 3,805 | 3,925

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-15-21 Airbus Industrie: Amendment 39-12356. Docket 2000-NM-412-AD.

Applicability: Model A300 B2 and B4 series airplanes; Model A310 series airplanes, except those on which Airbus Modification 12201 has been embodied in production; and Model A300 B4-600, B4-600R, and F4-600R (collectively called A300-600) series airplanes, except those on which Airbus Modification 12202 has been embodied in production; certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent the possibility of overheating of the fuel level sensors, which could lead to the risk of explosion in the fuel tank, accomplish the following:

Modification

(a) Within 18 months after the effective date of this AD, modify the electrical connectors to the fuel sensors by the installation of new connectors and new sensors, or fused adapters for the sensors, as applicable, in accordance with Airbus Service Bulletin A300-28-0078 (for Model A300 B2 and B4 series airplanes), A300-28-6063 (for Model A300-600 series airplanes), or A310-28-2141 (for Model A310 series airplanes), all dated September 27, 2000; as applicable.

Alternative Methods of Compliance

(b) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(c) Special flight permits may be issued in accordance with sections §§ 21.197 and 21.199 of the Federal Aviation Regulations (14 CFR 21.197 and 21.199) to operate the airplane to a location where the requirements of this AD can be accomplished.

Incorporation by Reference

(d) The modification shall be done in accordance with Airbus Service Bulletin A300-28-0078, dated September 27, 2000; Airbus Service Bulletin A300-28-6063, dated September 27, 2000; or Airbus Service Bulletin A310-28-2141, including Appendix 1, dated September 27, 2000; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 2000-481-324(B), dated November 29, 2000.

Effective Date

(e) This amendment becomes effective on September 10, 2001.

Issued in Renton, Washington, on July 26, 2001.
Vi L. Lipski,
Manager, Transport Airplane Directorate, Aircraft Certification Service.

[FR Doc. 01-19247 Filed 8-3-01; 8:45 am]

BILLING CODE 4910-13-U